Title 3—

The President

Proclamation 8057 of September 28, 2006

Child Health Day, 2006

By the President of the United States of America

A Proclamation

America's young people enjoy a future of hope and promise, and we must be committed to supporting them through each opportunity and challenge they face ahead. Each year on Child Health Day, we emphasize the importance of keeping our children safe, encouraging them to practice healthy habits, and educating and empowering them to avoid risky behavior.

Parents are children's first teachers, and they play a crucial role in promoting good health and helping young people grow into responsible, moral, and productive adults. Violence, illegal drugs, alcohol, smoking, and early sexual activity are some of the top causes of disease and early death among our youth. By being vigilant and talking with their children about the issues they face, parents can teach children to make the right decisions when they are challenged by peer pressure or tempted to participate in dangerous activities.

My Administration recognizes the importance of investing in the health and well-being of our young people, and we remain committed to helping our children build healthy and successful lives. Through the Helping America's Youth Initiative, led by First Lady Laura Bush, we are encouraging children to make good choices, educating parents and communities on the importance of positive youth development, and supporting organizations that are dedicated to the success of America's children.

Every day, parents strive to raise their children to be strong and successful adults. By working together, families, teachers, mentors, and government and community leaders can help ensure young people enjoy the opportunity to have long and healthy lives.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 2, 2006, as Child Health Day. I call upon families, schools, child health professionals, faith-based and community organizations, and State and local governments to reach out to our Nation's young people, encourage them to avoid dangerous behavior, and help make the right choices to achieve their dreams.

IN WITNESS WHEREOF, I have hereunto set my hand this twenty-eighth day of September, in the year of our Lord two thousand six, and of the Independence of the United States of America the two hundred and thirty-first.

[FR Doc. 06-8510

Filed 10-3-06; 8:45 am]

Billing code 3195-01-P